DEPARTMENT OF TRANSPORTATION

Office of the Secretary

Aviation Proceedings, Agreements Filed During the Week Ending October 25, 2002

The following Agreements were filed with the Department of Transportation under the provisions of 49 U.S.C. Sections 412 and 414. Answers may be filed within 21 days after the filing of the application.

Docket Number: OST-2002-13631.

Date Filed: October 22, 2002.

Parties: Members of the International Air Transport Association.

Subject:

PTC23 AFR-TC3 0184 dated 22 October 2002.

Mail Vote 247—TC23/TC123 Africa-South East Asia.

Special Passenger Amending Resolution 010e r1-r2.

PTC23 AFR-TC3 0185 dated 22 October 2002.

Mail Vote 248—TC23/TC123 Africa-Japan/Korea.

Special Passenger Amending Resolution 010f r3-r13.

Intended effective date: 15 November 2002.

Docket Number: OST-2002-13681.

Date Filed: October 23, 2002.

Parties: Members of the International Air Transport Association.

Subject:

Mail Vote 239.

PTC123 0201 dated 16 September 2002 r1-r18.

PTC123 0210 dated 11 October 2002 (Affirmative).

Minutes—PTC123 0217 dated 22 October 2002.

Tables—PTC123 Fares 0072 dated 11 October 2002.

PTC123 Fares 0076 (Technical Correction).

Intended effective date: 1 March 2003.

Docket Number: OST 2002-13684.

Date Filed: October 24, 2002.

Parties: Members of the International Air Transport Association.

Subject:

Mail Vote 242

PTC123 dated 16 September 2002 r1-r9

TC123 North Atlantic-USA-Korea (Rep. of), Malaysia

Resolutions

PTC123 0213 dated 11 October 2002 (Affirmative)

Minutes—PTC123 0217 dated 22 October 2002

Tables—PTC123 Fares 0075 dated 11 October 2002

Intended effective date: 1 March 2003.

Dorothy Y. Beard,
Federal Register Liaison.

[FR Doc. 02-28091 Filed 11-4-02; 8:45 am]

BILLING CODE 4910-62-P